DEPARTMENT OF HEALTH AND HUMAN SERVICES

Food and Drug Administration

[Docket No. FDA-2022-N-3299]

Understanding the Use of Negative Controls To Assess the Validity of Non-Interventional Studies of Treatment Using Real-World Evidence; Public Workshop; Request for Comments

AGENCY: Food and Drug Administration, HHS.

ACTION: Notice of public workshop; request for comments.

SUMMARY: The Food and Drug Administration (FDA or Agency) is announcing the following public workshop entitled “Understanding the Use of Negative Controls to Assess the Validity of Non-Interventional Studies of Treatment Using Real-World Evidence.” Convened by the Duke-Margolis Center for Health Policy and supported by a cooperative agreement between FDA and Duke-Margolis, the purpose of this public workshop is to discuss existing negative control methodologies for studies based on real-world data and to outline advantages and disadvantages of the use of negative controls for evaluating the safety and effectiveness of regulated medical products. Additionally, the Center for Drug Evaluation and Research and the Center for Biologics Evaluation and Research will propose projects to develop negative control methods and implement new tools for use in the Sentinel System, Biologics Effectiveness and Safety (BEST) System, and with Federal Partners.

DATES: The public workshop will be virtually convened on March 8, 2023, from 10 a.m. to 3 p.m., Eastern Standard Time. Either electronic or written comments on this public workshop must be submitted by May 8, 2023. See the SUPPLEMENTARY INFORMATION section for registration date and information.

ADDRESSES: The public workshop will be held virtually using the Zoom Platform. The link for the public workshop can be accessed at the following web page: https://duke.is/cy9w4.

You may submit comments as follows. Please note that late, untimely filed comments will not be considered. The https://www.regulations.gov electronic filing system will accept comments until 11:59 p.m. Eastern Time at the end of May 8, 2023. Comments received by mail/hand delivery/courier (for written/paper submissions) will be considered timely if they are received on or before that date.

Electronic Submissions

Submit electronic comments in the following way:

• Federal eRulemaking Portal: https://www.regulations.gov. Follow the instructions for submitting comments. Comments submitted electronically, including attachments, to https://www.regulations.gov will be posted to the docket unchanged. Because your comment will be made public, you are solely responsible for ensuring that your comment does not include any confidential information that you or a third party may not wish to be posted, such as: medical information, your or anyone else's Social Security number, or confidential business information, such as a manufacturing process. Please note that if you include your name, contact information, or other information that identifies you in the body of your comments, that information will be posted on https://www.regulations.gov.

• If you want to submit a comment with confidential information that you do not wish to be made available to the public, submit the comment as a written/paper submission and in the manner detailed (see “Written/Paper Submissions” and “Instructions”).

Written/Paper Submissions

Submit written/paper submissions as follows:

• Mail/Hand Delivery/Courier (for written/paper submissions): Dockets Management Staff (HFA-305), Food and Drug Administration, 5630 Fishers Lane, Rm. 1061, Rockville, MD 20852.

• For written/paper comments submitted to the Dockets Management Staff, FDA will post your comment, as well as any attachments, except for information submitted, marked and identified, as confidential, if submitted as detailed in “Instructions.”

Instructions: All submissions received must include the Docket No. FDA-2022-N-3299 for “Understanding the Use of Negative Controls to Assess the Validity of Non-Interventional Studies of Treatment Using Real-World Evidence.” Received comments, those filed in a timely manner, will be placed in the docket and, except for those submitted as “Confidential Submissions,” publicly viewable at https://www.regulations.gov or at the Dockets Management Staff between 9 a.m. and 4 p.m., Monday through Friday, 240-402-7500.

• Confidential Submissions: To submit a comment with confidential information that you do not wish to be made publicly available, submit your comments only as a written/paper submission. You should submit two copies total. One copy will include the information you claim to be confidential with a heading or cover note that states “THIS DOCUMENT CONTAINS CONFIDENTIAL INFORMATION.” The Agency will review this copy, including the claimed confidential information, in its consideration of comments. The second copy, which will have the claimed confidential information redacted/blacked out, will be available for public viewing and posted on https://www.regulations.gov. Submit both copies to the Dockets Management Staff. If you do not wish your name and contact information to be made publicly available, you can provide this information on the cover sheet and not in the body of your comments. You must identify this information as “confidential.” Any information marked as “confidential” will not be disclosed except in accordance with 21 CFR 10.20 and other applicable disclosure law. For more information about FDA's posting of comments to public dockets, see 80 FR 56469, September 18, 2015, or access the information at: https://www.govinfo.gov/content/pkg/FR-2015-09-18/pdf/2015-23389.pdf.

Docket: For access to the docket to read background documents or the electronic and written/paper comments received, go to https://www.regulations.gov and insert the docket number, found in brackets in the heading of this document, into the “Search” box and follow the prompts and/or go to the Dockets Management Staff, 5630 Fishers Lane, Rm. 1061, Rockville, MD 20852, 240-402-7500.

FOR FURTHER INFORMATION CONTACT: Jamila Mwidau, Food and Drug Administration, Center for Drug Evaluation and Research, 10903 New Hampshire Ave., Bldg. 22, Rm. 4481, Silver Spring, MD 20993, 301-796-4989, Jamila.Mwidau@fda.hhs.gov; or Stephen Ripley, Center for Biologics Evaluation and Research, Food and Drug Administration, 10903 New Hampshire Ave., Bldg. 71, Rm. 7301, Silver Spring, MD 20993, 240-402-7911.

SUPPLEMENTARY INFORMATION:

I. Background

In connection with the seventh iteration of the Prescription Drug User Fee Amendments (PDUFA VII), incorporated as part of the FDA User Fee Reauthorization Act of 2022, FDA has committed to enhancing and modernizing the FDA drug safety system, including improving the utility of existing tools and adopting new scientific approaches. This commitment includes optimizing the capabilities of the Sentinel Initiative to address questions of product safety and advance the understanding of how Real-World Evidence can be used for studying effectiveness.

Under PDUFA VII, FDA agreed to conduct a public workshop by September 30, 2023, on the use of negative controls for assessing the validity of non-interventional studies of treatment. This public workshop, scheduled for March 8, 2023, will satisfy the PDUFA VII commitment. One purpose of the public workshop is to discuss current negative control methods in studies based on real-world data and discuss future implications for their use to evaluate the safety of regulated medical products. Another purpose of the public workshop is to present the proposed methods development projects that may support a tool for use in the Sentinel System and BEST.

II. Topics for Discussion at the Public Workshop

Some topics FDA plans to discuss at the public workshop include but may not be limited to the following:

1. What are the strengths and limitations of current negative control methods used in studies based on real-world data?

2. What are known and potential benefits and challenges in using negative controls in evaluating regulated product safety and effectiveness?

3. What additional information is needed about negative control methods to provide confidence regarding their use in regulatory decision-making?

III. Participating in the Public Workshop

Registration: To register for the public workshop, please visit the following website to register: https://duke.is/cy9w4. Please provide complete contact information for each attendee, including name, title, affiliation, address, email, and telephone.

Registration is free and open until the public workshop is completed. Persons interested in attending this public workshop can register until 2:59 p.m. Eastern Standard Time on March 8, 2023.

If you need special accommodations due to a disability, please contact margolisevents@duke.edu no later than February 22, 2023.

Dated: January 12, 2023.
Lauren K. Roth,
Associate Commissioner for Policy.

[FR Doc. 2023-00840 Filed 1-17-23; 8:45 am]

BILLING CODE 4164-01-P